SUSQUEHANNA RIVER BASIN COMMISSION

Notice of Actions Taken at September 16, 2010, Meeting

AGENCY: Susquehanna River Basin Commission.

ACTION: Notice of Commission Actions.

SUMMARY: At its regular business meeting on September 16, 2010, in Corning, New York, the Commission held a public hearing as part of its regular business meeting. At the public hearing, the Commission: (1) Approved settlements involving three water resources projects; (2) approved and tabled certain water resources projects, including approval of one project involving diversions into the basin; and (3) rescinded approval for two water resources projects.

DATES: September 16, 2010.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) An update on the SRBC Remote Water Quality Monitoring Network; (2) a report on the present hydrologic conditions of the basin; (3) approval of a final rulemaking amending 18 CFR parts 806 and 808; (4) ratification/approval of grants/contracts; and (5) amendment of Resolution No. 2010-03 adopting a FY-2012 budget commencing July 1, 2011. The Commission heard counsel's report on legal matters affecting the Commission. The Commission also convened a public hearing and took the following actions:

Public Hearing—Compliance Matters

The Commission approved a settlement in lieu of civil penalties for the following projects:

1. Talisman Energy USA Inc. Pad ID: Castle 01 047 (ABR-20100128), Armenia Township; Harvest Holdings 01 036 (ABR-20100225), Canton Township; and Putnam 01 076 (ABR-20100233), Armenia Township; Bradford County, Pa.—$8,280

2. Cabot Oil & Gas Corporation. Withdrawal ID: Susquehanna River-3 (Docket No. 20080905), Great Bend Borough, Susquehanna County, Pa.—$5,000

3. Seneca Resources Corporation. Pad ID: M. Pino H (ABR-20090933), DCNR 100 1V (ABR-20090436), Wilcox F (ABR-20090505), T. Wivell (ABR-20090814), Wivell I (ABR-20100607), DCNR 595 E (ABR-20100307), DCNR 595 D (ABR-20090827); Withdrawal ID: Arnot 5—Signor (Docket No. 20090908).—$35,000

Public Hearing—Projects Approved

1. Project Sponsor and Facility: Anadarko E&P Company LP (Beech Creek), Snow Shoe Township, Centre County, Pa. Surface water withdrawal of up to 0.249 mgd.

2. Project Sponsor and Facility: Anadarko E&P Company LP (Pine Creek—2), McHenry Township, Lycoming County, Pa. Surface water withdrawal of up to 0.499 mgd.

3. Project Sponsor: Aqua Pennsylvania, Inc. Project Facility: Monroe Manor Water System, Monroe Township, Snyder County, Pa. Groundwater withdrawal of up to 0.180 mgd from Well 4.

4. Project Sponsor and Facility: Buck Ridge Stone, LLC (Salt Lick Creek), New Milford Township, Susquehanna County, Pa. Surface water withdrawal of up to 0.083 mgd.

5. Project Sponsor and Facility: Chesapeake Appalachia, LLC (Susquehanna River), Mehoopany Township, Wyoming County, Pa. Modification to project features of the withdrawal approval (Docket No. 20080923).

6. Project Sponsor and Facility: Citrus Energy (Susquehanna River), Washington Township, Wyoming County, Pa. Surface water withdrawal of up to 1.994 mgd.

7. Project Sponsor and Facility: Geary Enterprises (Buttermilk Creek), Falls Township, Wyoming County, Pa. Surface water withdrawal of up to 0.099 mgd.

8. Project Sponsor: New Morgan Landfill Company, Inc. Project Facility: Conestoga Landfill, New Morgan Borough, Berks County, Pa. Groundwater withdrawal of up to 0.003 mgd from the Shop Well and surface water withdrawal of up to 0.249 mgd from the Quarry Pond.

9. Project Sponsor and Facility: Novus Operating, LLC (Cowanesque River), Westfield Township, Tioga County, Pa. Surface water withdrawal of up to 0.750 mgd.

10. Project Sponsor and Facility: Smith Transport Warehouse (Bald Eagle Creek), Snyder Township, Blair County, Pa. Surface water withdrawal of up to 0.160 mgd.

11. Project Sponsor and Facility: Sugar Hollow Trout Park and Hatchery, Eaton Township, Wyoming County, Pa. Groundwater withdrawal of up to 0.864 mgd combined total from Wells 1, 2, and 3 (Hatchery Well Field).

12. Project Sponsor and Facility: Talisman Energy USA Inc. (Seeley Creek), Wells Township, Bradford County, Pa. Surface water withdrawal of up to 0.750 mgd.

13. Project Sponsor and Facility: Talisman Energy USA Inc. (Wyalusing Creek), Stevens Township, Bradford County, Pa. Surface water withdrawal of up to 2.000 mgd.

14. Project Sponsor and Facility: Williams Production Appalachia, LLC (Snake Creek), Liberty Township, Susquehanna County, Pa. Modification to project features of the withdrawal approval (Docket No. 20090302).

Public Hearing—Projects Tabled

1. Project Sponsor and Facility: Anadarko E&P Company LP (Wolf Run), Snow Shoe Township, Centre County, Pa. Application for surface water withdrawal of up to 0.499 mgd.

2. Project Sponsor and Facility: Chief Oil & Gas LLC (Martins Creek), Hop Bottom Borough, Susquehanna County, Pa. Application for surface water withdrawal of up to 0.360 mgd.

3. Project Sponsor and Facility: Mansfield Borough Municipal Authority, Richmond Township, Tioga County, Pa. Application for groundwater withdrawal of up to 0.079 mgd from Well 3.

4. Project Sponsor and Facility: Novus Operating, LLC (Tioga River), Covington Township, Tioga County, Pa. Application for surface water withdrawal of up to 1.750 mgd.

5. Project Sponsor and Facility: Walker Township Water Association, Walker Township, Centre County, Pa. Modification to increase the total groundwater system withdrawal limit (30-day average) from 0.523 mgd to 0.962 mgd (Docket No. 20070905).

Public Hearing—Diversion Project Approved

1. Project Sponsor: Gettysburg Municipal Authority. Project Facility: Hunterstown Wastewater Treatment Plant, Straban Township, Adams County, Pa. Application for an existing into-basin diversion of up to 0.123 mgd from the Potomac River Basin.

Public Hearing—Rescission of Project Approvals

1. Project Sponsor: McNeil PPC. Project Facility: Johnson & Johnson (Docket No. 20050906), Lititz Borough, Lancaster County, Pa.

2. Project Sponsor: Northampton Fuel Supply Company, Inc. Project Facility: Loomis Bank Operation (Docket No. 20040904), Hanover Township, Luzerne County, Pa.

Authority: Pub. L. 91-575, 84 Stat. 1509 et seq., 18 CFR parts 806, 807, and 808.

Dated: September 30, 2010.
Thomas W. Beauduy,
Deputy Executive Director.

[FR Doc. 2010-25792 Filed 10-13-10; 8:45 am]

BILLING CODE 7040-01-P